DEPARTMENT OF THE INTERIOR

Fish and Wildlife Service

Recovery Plan for Coastal Plants of the Northern San Francisco Peninsula

AGENCY: U.S. Fish and Wildlife Service, Interior.

ACTION: Notice of document availability.

SUMMARY: The U.S. Fish and Wildlife Service (“we”) announces the availability of the Recovery Plan for Coastal Plants of the Northern San Francisco Peninsula. This recovery plan includes the endangered San Francisco lessingia (Lessingia germanorum) and Raven's manzanita (Arctostaphylos hookeri ssp. ravenii). The portion of the plan dealing with Raven's manzanita is a revision of the 1984 Raven's Manzanita Recovery Plan. Additional species of concern that will benefit from recovery actions taken for these plants are also discussed in the recovery plan. This recovery plan includes recovery criteria and measures for the San Francisco lessingia and Raven's manzanita.

ADDRESSES: Hard copies of the final recovery plan will be available in 4 to 6 weeks by written request addressed to the Field Supervisor, U.S. Fish and Wildlife Service, Sacramento Fish and Wildlife Office, 2800 Cottage Way, Room W-2605, Sacramento, California 95825-1888. This final recovery plan is currently available on the World Wide Web at http://endangered.fws.gov/recovery/index.html#plans.

FOR FURTHER INFORMATION CONTACT: Larry Host or Kirsten Tarp, Fish and Wildlife Biologists, at the above Sacramento address (telephone 916-414-6600).

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species, unless such a plan would not promote the conservation of a particular species. Section 4(f) of the Act requires that public notice and an opportunity for public review and comment be provided during recovery plan development. The Draft Recovery Plan for Coastal Plants of the Northern San Francisco Peninsula was available for comment from December 4, 2001, through September 9, 2002. We sent 1,574 copies of the draft plan to affected or interested parties. About 430 comment letters were received and reviewed by us, including 5 responses from peer reviewers.

Substantive technical comments resulted in several changes to the plan. Many of these came from the National Park Service and the Presidio Trust who have been working to recover the two focus species for several years. Their comments provided helpful information about the costs and time needs for several of the actions recommended in the plan. Substantive comments regarding implementation of the plan did not necessarily result in changes to the recovery plan, but will be used to assist the work of participating Federal and other entities during the course of implementing recovery actions.

San Francisco lessingia and Raven's manzanita are restricted to the San Francisco peninsula in San Francisco County and the northern part of San Mateo County, California. San Francisco lessingia, an annual herb in the aster family, is restricted to coastal sand deposits. Raven's manzanita, a rare evergreen creeping shrub in the heath family, was historically restricted to a few scattered serpentine outcrops. Habitat loss, adverse alteration of ecological processes, and invasion of non-native plant species threaten San Francisco lessingia. Raven's manzanita has also been threatened by habitat loss. The primary current threats to Raven's manzanita include invasion of non-native vegetation; fungal pathogens; and tussock moth caterpillars, the larvae of moths from the family Lymantriidae, that eat the plants' leaves.

The plan also makes reference to several other federally listed species which are ecologically associated with San Francisco lessingia and Raven's manzanita, but which are treated comprehensively in other recovery plans. These species are beach layia (Layia carnosa), Presidio clarkia (Clarkia franciscana), Marin dwarf-flax (Hesperolinon congestum), Myrtle's silverspot butterfly (Speyere zerene myrtleae), and bay checkerspot butterfly (Euphydryas editha bayensis). In addition, 16 plant species of concern and 17 plant species of local or regional conservation significance are considered in this recovery plan.

The recovery plan stresses re-establishing dynamic, persistent populations of San Francisco lessingia and Raven's manzanita within plant communities which have been restored to be as “self-sustaining” as possible within urban wildland reserves. Because the species has been reduced to small remnant areas of habitat, specific recovery actions for San Francisco lessingia focus on the restoration and management of larger, dynamic mosaics of coastal dune areas supporting shifting populations within the species' narrow historic range. Recovery of Raven's manzanita will include, but will not be limited to, the strategy of the 1984 Raven's Manzanita Recovery Plan, which emphasized the stabilization of the single remaining genetic individual. The plan also seeks to re-establish multiple sexually reproducing populations of Raven's manzanita in association with its historically associated species of local serpentine outcrops.

The objectives of this recovery plan are to delist San Francisco lessingia and to downlist Raven's manzanita through implementation of a variety of recovery measures including: (1) Protection and restoration of a series of ecological reserves (often with mixed recreational and conservation park land uses); (2) promotion of population increases of San Francisco lessingia and Raven's manzanita within these sites, and reintroduction of them to restored sites; (3) management of protected sites, especially the extensive eradication or suppression of invasive dominant non-native vegetation; (4) research; and (5) public participation, outreach, and information.

Authority: The authority for this action is section 4(f) of the Endangered Species Act, 16 U.S.C. 1533(f).

Dated: August 8, 2003.
Steve Thompson,
Manager, California/Nevada Operations Office, Region 1, Fish and Wildlife Service.

[FR Doc. 03-25238 Filed 10-3-03; 8:45 am]

BILLING CODE 4310-55-P